DEPARTMENT OF JUSTICE

Antitrust Division

Notice Pursuant to the National Cooperative Research and Production Act of 1993—MLCommons Association

Notice is hereby given that on September 23, 2021 pursuant to Section 6(a) of the National Cooperative Research and Production Act of 1993, 15 U.S.C. 4301 et seq. (the “Act”), MLCommons Association (“MLCommons”) has filed written notifications simultaneously with the Attorney General and the Federal Trade Commission disclosing changes in its membership. The notifications were filed for the purpose of extending the Act's provisions limiting the recovery of antitrust plaintiffs to actual damages under specified circumstances. Specifically, Femtosense, Inc., Palo Alto, CA; Sebastian Magierowski (individual member), Toronto, CANADA; Oana Balmau (individual member), Montreal, CANADA; Jeffrey Mao (individual member), Union City, CA; Maxwell Labs Inc., New Hope, MN; and Anh Nguyen (individual member), Munich, GERMANY have joined as parties to this venture.

No other changes have been made in either the membership or planned activity of the group research project. Membership in this group research project remains open and MLCommons intends to file additional written notifications disclosing all changes in membership.

On September 15, 2020, MLCommons filed its original notification pursuant to Section 6(a) of the Act. The Department of Justice published a notice in the Federal Register pursuant to Section 6(b) of the Act on September 29, 2020 (85 FR 61032).

The last notification was filed with the Department on July 12, 2021. A notice was published in the Federal Register pursuant to Section 6(b) of the Act on August 23, 2021 (86 FR 47151).

Suzanne Morris,
Chief, Premerger and Division Statistics, Antitrust Division.

[FR Doc. 2021-23096 Filed 10-21-21; 8:45 am]

BILLING CODE 4410-11-P